DEPARTMENT OF THE INTERIOR

Office of the Secretary

Request for Comments on the Strategic Plan Framework as Input for Revision and Updating of the Departmental Strategic Plan

AGENCY: Office of the Secretary, Interior.

ACTION: Notice of availability and request for comments.

SUMMARY: The Department of the Interior is seeking public comment as part of its process to revise and update its current strategic plan.

DATES: You must submit comments on or before November 10, 2009.

ADDRESSES: You may submit comments by any of the following methods:

E-mail: StratPlancomments@ios.doi.gov.

FAX: 202-208-2619.

Mail: U.S. Department of the Interior, Office of the Secretary—Planning and Performance Management, Attention: DOI Strategic Planning Coordinator, 1849 C Street, NW., Mail Stop 5258, Washington, DC 20240-0001.

Public Availability of Comments

Before including your address, phone number, e-mail address, or other personal identifying information in your comment, you should be aware that your entire comment—including your personal identifying information—may be made public under certain circumstances. While you can ask us in your comment to withhold your personal identifying information from public review, we cannot guarantee that we will be able to do so.

FOR FURTHER INFORMATION CONTACT: LeRon E. Bielak, DOI Strategic Planning Coordinator at (202) 208-5340 or by e-mail at leron_bielak@ios.doi.gov.

SUPPLEMENTARY INFORMATION: The Government Performance and Results Act of 1993 (GPRA) requires periodic updating of agency strategic plans. The first Interior GPRA Strategic Plan was published in 1997. Subsequent revisions were published in 2000, 2003 and 2006. In producing the plan published in 2003, Interior took a major departure from its past approaches to GPRA planning. In 2003, Interior reversed an approach of publishing separate strategic plans for each bureau by developing its first unified, Department-wide strategic plan.

The 2003 plan formulated common goals and performance measures among bureaus and placed a greater emphasis on specific results to be achieved. In creating this integrated plan, Interior employed a model in which it committed to outcome goals to be achieved and a supporting set of strategies for helping achieve the desired outcomes. Both outcome goals and strategies have been accompanied by specific performance measures that indicate the progress toward the intended results.

The integrated Departmental plan approach specifies long-term quantitative targets for results to be achieved while annual performance expectations are laid out in Interior's annual Performance Budget. Bureaus and offices are also expected to integrate operational plans into their budgets that link and align directly with the Departmental strategic plan. The operational plans are also used to help confirm the relevance and cost of work conducted and to guide future budget formulation, justifications, and decision making.

The process for revising and updating our plan has been time-intensive as adequate time must be allocated for soliciting and analyzing public comment, providing for consultations and meetings to generate extended conversations about the nature and content of the plan, and progressing through a careful evaluation and approval process prior to publication.

This revision process has been complicated by the transition to a new Administration and the need for new Departmental senior leadership to be appointed and confirmed. Because of the duration of the transition process, and the need to avoid pre-empting decisions that fall to new leadership, preliminary revision work was restricted to analysis of existing performance metrics, identifying potential gaps or problems in program coverage in the plan, narrative and statistical updates, and preparation of initial options papers and schedules.

Interior Secretary Salazar considers it important to proceed with the revision process and obtain public input that will be instrumental in helping establish a plan that will focus more clearly on areas of critical concern. Secretary Salazar also views this revision as a timely opportunity to emphasize important priorities and commitments of the Administration. Among these priorities are (1) achieving greater energy independence and promoting the development of clean alternative energy sources, (2) protecting treasured landscapes, (3) addressing the issue of global climate change, (4) meeting our commitments to Native Americans and Alaska Natives, (5) addressing critical water issues, (6) creating opportunities for youth in the outdoors, and (7) insuring the integrity of science in support of Interior's decision making.

This is your invitation to present your views on the framework of missions, strategic goals, and performance measures the Department considers for revision and updating of its strategic plan. These include significant structural changes and priorities that are being proposed by the Secretary as well as your views on how to better define the results the Department should achieve and how to effectively measure our progress toward those outcomes. Input will not be sought on specific performance measure targets (also known as performance goals).

There are also several problematic areas for which your ideas are specifically being solicited: (1) Establishing a specific strategic plan goal and performance measure(s) for Indian Self-Government and Self-Determination and for Indian economic development; (2) addressing areas where the Department wants to improve existing measures, particularly metrics relating to wildland fire and endangered species conservation; (3) developing measures for gauging the effectiveness of scientific research; and (4) addressing performance measurement gaps that have been identified (shown with TBD in the measure charts of the proposed framework which can be found at the Interior Web site).

In addition to soliciting written comments, Interior is selecting several locations around the country where open meetings will be held within the next two months to discuss the strategic plan framework for revision of the plan. As with the written comments, input will not be sought on specific performance measure targets. At each location, one or more separate sessions will be held for the general public, stakeholders, the Tribes, or Interior employees. The probable meeting locations include Anchorage AK, Phoenix AZ, Portland OR, and Washington, DC. Additional Tribal meetings are likely to occur in Minneapolis, MN and Oklahoma City, OK. An additional public stakeholder and employee meeting site may be Denver, CO. Please monitor the Federal Register or the Department of the Interior Web site http://www.doi.gov/strategicplan for final details in the near future. We also intend to offer an on-line conferencing opportunity for those who cannot attend one of these meetings. Other on-line opportunities are being explored to expand the opportunities for discussion.

There is no prescribed format for submitting written comments, however, it would be very helpful to separate your comments into those that apply to mission, goals, and performance measures versus those that apply to any other plan content (as described in items #3-5 below). An optional format for submitting your comments is available on line at the Interior Web site, (http://www.doi.gov/strategicplan) as well as other viewable or downloadable files of the proposed framework, the current plan, reference documents such as the GPRA, frequently asked questions and other helpful information. (These are also available through the contact point listed earlier.) Comments that may refer to funding, legislation, procedural issues, or other questions more peripheral to the planning effort will receive separate consideration and may not be directly factored into the revised plan.

Although the format for an agency strategic plan is discretionary, you should know that GPRA requires that the following content be included in any such final plan:

(1) A comprehensive mission statement,

(2) Goals and objectives for major functions,

(3) Means and strategies for meeting goals,

(4) Key factors that could affect results achieved, and

(5) A listing of program evaluations used in revising the plan.

GPRA also requires that an Agency consult with Congress and obtain the views of affected and interested parties.

Dated: September 8, 2009.
Rhea Suh,
Assistant Secretary—Policy, Management and Budget.

[FR Doc. E9-21930 Filed 9-10-09; 8:45 am]

BILLING CODE P